DEPARTMENT OF AGRICULTURE

Forest Service

Shasta-Trinity National Forest; California; Trinity Post Fire Hazard Reduction and Salvage

AGENCY: Forest Service, USDA.

ACTION: Notice of intent to prepare an environmental impact statement.

SUMMARY: The proposed action would treat approximately 8,100 acres to reduce hazardous conditions within a buffer along open roads that burned in the 2015 wildfires. Standing dead and downed trees would be utilized to the extent practicable.

DATES: Comments concerning the scope of the analysis must be received by December 24, 2015. The draft environmental impact statement is expected April 2016 and the final environmental impact statement is expected August 2016.

ADDRESSES: Send written comments to Trinity Post Fire Hazard Reduction and Salvage Project, Attn: Brenda Olson, Shasta-Trinity National Forest, 3644 Avtech Parkway, Redding, CA 96002. Comments may also be sent via email to comments-pacificsouthwest-shasta-trinity@fs.fed.us, or via facsimile to 530-226-2475.

FOR FURTHER INFORMATION CONTACT: Brenda Olson by phone at 530-226-2422, or by email at brendaolson@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Shasta-Trinity National Forest and Six Rivers National Forest have experienced wildfire on approximately 220,000 acres as a result of lighting in 2015. The majority of acres affected are the result of a July 30, 2015 lightning event. Much of the fire areas burned through National Forest System lands, but a number of private landowners were also affected. Approximately 161,000 acres of the Shasta-Trinity National Forest were burned. Wildfires affected most land allocations including designated Wilderness, Adaptive Management Areas, and Late-Successional Reserve, as well as Inventoried Roadless Areas. Fires burned in a mosaic of intensities; acres burned have been categorized into high, moderate and low severity based on Rapid Assessment of Vegetation Condition After Wildfire (RAVG) data. Five fire complexes and one separate fire burned on the Shasta-Trinity National Forest:

• The Fork Complex near the communities of Hayfork, Post Mountain, and Wildwood (34,500 acres; 8,900 acres of high and moderate severity);

• The South Complex north and east of the community of Hyampom (29,400 acres; 5,900 acres high and moderate severity);

• The Mad River Complex near the communities of Mad River, Ruth, and Forest Glen (39,200 acres; 6,600 acres high and moderate severity);

• The Route Complex near the communities of Mad River and Hyampom (35,700 acres; 6,300 acres high and moderate severity);

• The River Complex near the Hoopa Reservation, the communities of Burnt Ranch and Denny, and within the Trinity Alps Wilderness Area (78,600 acres; 17,100 acres high and moderate severity); and

• The Saddle Fire northwest of the town of Hyampom (1,500 acres; 600 acres high and moderate severity).

A portion of the areas that burned at moderate and high severity had conifer forest cover prior to the fires (other acres were brush, grasslands or oak woodlands). The acres of conifer and mixed conifer forest that burned at high severity generally have no remaining live trees, and the areas that burned at moderate severity also have a high likelihood of deforestation or large pockets of mortality due to fire-injury. Many trees showing signs of live branches or tops immediately following the fire will be lost due to cambium death or secondary mortality from insects compounded by years of drought.

The areas affected by the 2015 wildfires on the Shasta-Trinity National Forest include vegetation along 387 miles of road (353 miles of National Forest System roads, 32 miles administered by state and county). Of these 387 miles, 248 miles are open to the public, including 233 miles through National Forest System lands. The vegetation along these roads experienced wildfire at varying degrees of intensity. Forested lands experiencing moderate and high intensity fire has resulted in a substantial number of dead and dying trees. Structural integrity of fire-killed trees has been compromised and it is expected many of them will fall during a wind or storm event.

Current conditions within the burned area differ from the desired condition as identified in the Shasta-Trinity National Forest Land and Resource Management Plan (Forest Plan; 1995). Trees that were killed by the fire become less stable and increase the risk to all forest users. Once this material is on the ground and combined with the dead brush, fire behavior is likely to be more intense and more difficult to control. Because of the expected future fire behavior and the elevated risk of fire killed trees falling on firefighters, wildfire suppression strategies would be limited. Desired future conditions would be safe firefighter and public access; conditions that lead to a slower rate of wildfire spread and reduced intensity, with associated increased effectiveness of initial attack by firefighters; and roadside conditions that could be used as a line of defense for control of wildfires.

Within areas experiencing large scale disturbance on the Shasta-Trinity National Forest in 2015 due to wildfire, the purpose of this project is to move towards the desired conditions in the following ways:

1. Reduce hazards (i.e. fire-killed trees and excessive fuels) that threaten public and firefighter safety along open National Forest System, County, and State roads;

2. Sustain and establish forest cover; and,

3. Within the treated areas, capture the economic value of felled trees and support the economies of local communities by providing forest products.

Based on the Forest Plan and post fire assessment, we have identified a need to:

• Provide for public safety and protection of structures by managing fuel loading, distribution and arrangement within Wildland Urban Interface for low flame lengths and rate of spread (Forest Plan 4-18);

• Remove danger/hazard trees (Forest Plan 4-26);

• Reduce surplus activity fuels that remain after meeting wildlife, riparian, soil and other environmental needs (Forest Plan, pg. 4-17);

• Create conditions that will support the restoration of fire to its natural role in the ecosystem (Forest Plan 4-4).

• Establish forest stands at densities appropriate to contribute to forest harvest in the future and to maintain wildlife habitat (Forest Plan, pg. 4-154).

• Quickly recover the monetary value of wood through salvage and sale, where feasible and appropriate, to provide economic stimulus to local communities (Forest Plan 4-5).

Proposed Action

Dead vegetation will be treated on National Forest System lands along 233 miles of roads open to the public (i.e. National Forest System Roads (NFS), county roads, and state highways) that burned during the 2015 wildfire season. Treatments are proposed along 233 miles of public roads which cross National Forest System lands, including:

• 153 miles of NFS Maintenance Level 2 (accessible with high clearance vehicles) roads;

• 34 miles of NFS Maintenance Level 3 (accessible with passenger cars) roads;

• 19 miles of NFS Maintenance Level 4 (paved) roads; and

• 27 miles of state and county roads.

Treatments along these roads could include:

• Remove or treat dead vegetation (using one of the “treatment types” listed below) within a 300 foot total width buffer. Width of the buffer on either side of the road would change but would always total 300 feet; i.e. if conditions lend to a wider treatment on the uphill side, the uphill side may be treated up to 275 feet from the road and the downhill side would be treated for 25 feet from the road. The area of treatment is approximately 8,100 acres. The minimum treatment area along either side of the road will be 25 feet. Treatment types for both initial entry and maintenance could include:

○ Hand felling of dead trees and brush. Dead vegetation will be identified at the time of treatment.

○ Mastication, which pulverizes or chops standing trees and logs into small particles. This treatment can include mowing, mulching, or chipping.

○ Lopping woody debris (slash) and scattering around the treated area, which redistributes woody material.

○ Hand piling slash, which reduces surface fuels.

○ Machine piling slash, which reduces surface fuels.

○ Pile burning, which reduces surface fuels.

○ Jackpot burning, which is a burning method used to reduce heavy intermittent fuel concentrations, where fuels are not continuous enough to carry a broadcast fire.

○ Broadcast burning, which is a burning method used where heavy continuous fuel concentrations exist.

○ Chipping, which pulverizes or chops trees, brush, and logs into small particles.

• Maintain treated areas through understory burning, where feasible.

• Utilize wood products whenever possible. This can include salvage logs, commercial or personal firewood, biomass removal, etc.

○ Large timber sales are expected to be feasible on up to 128 miles of the roads proposed for treatment.

• Provide for future forest cover through planting, utilizing a species composition consistent with historic conditions, with spacing between seedlings of 18 to 30 feet.

• Create a control line on the outside edge of treatment areas where necessary to maintain fuel reductions with prescribed fire.

• Where appropriate, stumps of freshly cut conifers will be treated with an EPA-registered borate compound to prevent spread of Heterobasidion root disease.

• Trees or snags that are imminent hazards to the road and/or operations would felled; trees that are felled outside the treatment buffer would be left onsite.

• No treatments are proposed within Wilderness.

• Additional Resource Protection Measures will be developed to address resource concerns for wildlife, watersheds, soils and other issues that are identified.

Fuels reduction treatment goals are to:

• Reduce downed logs to 10-20 tons per acre. Downed logs includes woody material >3-inches in diameter including fuels created by salvage and suppression actions.

• Reduce dead brush by 50-100%.

Responsible Official

David R. Myers, Forest Supervisor, Shasta-Trinity National Forest.

Nature of Decision To Be Made

The Forest Supervisor will decide whether to implement the proposed action, take an alternative action that meets the purpose and need or take no action.

Scoping Process

This notice of intent initiates the scoping process, which guides the development of the environmental impact statement. This project is within Wildland Urban Interface and as such is consistent with the Healthy Forest Restoration Act of 2003 (HFRA), which contains provisions to expedite hazardous fuels reduction and forest restoration projects on federal lands. Project authorized under HFRA are defined under Section 102(a) of the act and are designed to actively involve the public (Section 104(e) and (f) of the act). In an effort to provide for collaborative design of this project or alternatives, you are invited to participate in open public meetings at the following locations and times: Hyampom Community Center on November 30, 2015 at 5:00 p.m.; Weaverville Board of Supervisor's Chambers on December 1, 2015 at 5:00 p.m.; Trinity County Fairgrounds dining hall in Hayfork on December 2, 2015 at 5:00 p.m.; Ruth Lake Community Services District Hall in Mad River on December 3, 2015; and, Burnt Ranch School on December 4, 2015 at 5:00 p.m. Additional project information is available on the project Web site: http://www.fs.usda.gov/project/?project=48060.

It is important that reviewers provide their comments at such times and in such manner that they are useful to the agency's preparation of the environmental impact statement. Therefore, comments should be provided prior to the close of the comment period and should clearly articulate the reviewer's concerns and alternative means of meeting the purpose and need.

Comments received in response to this solicitation, including names and addresses of those who comment, will be part of the public record for this proposed action. Comments submitted anonymously will be accepted and considered; however, anonymous comments will not provide the respondent with standing to participate in subsequent administrative review or judicial review. An Emergency Situation Determination will be requested for this project consistent with regulations at 36 CFR 218.21. An Emergency Situation Determination would eliminate the 30-day Objection period prior to a decision.

Dated: November 17, 2015.
David R. Myers,
Forest Supervisor.

[FR Doc. 2015-29878 Filed 11-23-15; 8:45 am]

BILLING CODE 3410-11-P